ENVIRONMENTAL PROTECTION AGENCY

[ER-FRL-6618-7]

Environmental Impact Statements; Notice of Availability

Responsible Agency: Office of Federal Activities, General Information (202) 564-7167 or www.epa.gov/oeca/ofa

Weekly receipt of Environmental Impact Statements

Filed May 29, 2001 Through June 01, 2001

Pursuant to 40 CFR 1506.9.

EIS No. 010194, Draft EIS, FHW, AL, Memphis to Atlanta Corridor Study (DPS-A002(002)), Proposal to Build Highway from the Mississippi/ Alabama State Line to Interstate 65, Funding and COE Section 404 Permit, Colbert, Franklin, Lauderdale, Lawrence, Limestone and Morgan Counties, AL, Comment Period Ends: July 30, 2001, Contact: Joe D. Wilkerson (334) 223-7370.

EIS No. 010195, Draft EIS, FHW, LA, I-49 Connector, Construction from Evangeline Thruway US-90 and US-197 in Urbanized Lafayette, Funding, COE Section 10 and 404 Permits, Parish of Lafayette, LA, Comment Period Ends: July 23, 2001, Contact: Bill Farr (225) 757-7615.

EIS No. 010196, Draft EIS, FHW, FL, I-4 Corridor Improvements, Upgrading the Safety and Mobility of the existing I-4, from west of FL-528 (Bee Line Expressway) interchange in Orange County to east of FL-472 interchange in Volusia County, Funding, COE Section 10 and 404 Permits, NPDES Permit, Orange, Seminole, and Volusia Counties, FL, Comment Period Ends: July 23, 2001, Contact: Donald Davis (850) 942-9650.

EIS No. 010197, Draft EIS, BOP, FL, GA, MS, AL, Criminal Alien Requirement (CAR) II, To Contract for a Private Contractor-Owned/Contractor-Operated Correctional Facility in Florida, Mississippi, Georgia and Alabama to House Adult-Male and Non-US Citizen, AL, FL, GA and/or MS, Comment Period Ends Due: July 23, 2001, Contact: David J. Dorworth (202) 514-6470.

EIS No. 010198, Draft EIS, GSA, NY, U.S. Mission to the United Nations (USUN), Demolition of Current USUN and the Construction of New Facility on the Same Site, Located at 799 United Nations Plaza, New York, NY, Comment Period Ends: July 23, 2001, Contact: Peter Sneed (212) 264-3581.

EIS No. 010199, Final EIS, RUS, KY, Jackson County Lake Project, Implementation, To Provide Adequate Water Supplies for the Projected Residential, Commercial and Industrial Needs, Funding and Possible COE Section 10 and 404 Permits, Jackson County, KY, Wait Period Ends: July 09, 2001, Contact: Mark S. Plank (202) 720-1649.

EIS No. 010200, Final EIS, IBR, CA, Grassland Bypass Project (2001 Use Agreement), To Implement the New Use Agreement for the period from October 1, 2001 through December 21, 2009, San Joaquin River and Merced River, Fresno, Merced and Stanislaus Counties, CA, Wait Period Ends: July 09, 2001, Contact: Michael Delamore (559) 487-5039.

EIS No. 010201, Final EIS, AFS, NV, CA, Northern Sierra Amendment to the Toiyabe Land and Resource Management, To Unify and Revise Management Direction, Humboldt-Toiyabe National Forest, Carson Ranger District, Stanislaus National Forest, Lake Tahoe Basin Management Unit, Douglas and Washoe Counties, NV and Alpine and Toulomne Counties, CA, Wait Period Ends: July 09, 2001, Contact: Dave Loomis (775) 882-2766.

EIS No. 010202, Final Supplement, COE, KY, Lower Cumberland and Tennessee Rivers Navigation Improvements, Kentucky Lock Addition, Implementation, Nashville District, Marshall and Livingston Counties, KY, Wait Period Ends: July 09, 2001, Contact: Tim Higgs (615) 736-7863.

EIS No. 010203, Final EIS, AFS, CA, Fuels Reduction for Community Protection Phase 1 Project on the Six Rivers National Forest, Proposes to Reduce Fuels High Severity Burned Stands, Lower Trinity Ranger District, Humboldt and Trinity Counties, CA, Wait Period Ends: July 09, 2001, Contact: David Webb (707) 457-3131.

Amended Notices

EIS No. 010128, Draft EIS, FHW, MT, Montana State Primary Route 78 (P-78), Reconstruction, Widening and Realignment, from the junction with State Secondary Route 419 (S-419) which is just South of Abarokee, to the Southern end of the Yellowstone River Bridge which is just south of Columbus, MT, Due: June 25, 2001, Contact: Dale W. Paulson (406) 449-5302. Revision of FR Notice Published on 04/27/2001: CEQ Review Period Ending 06/11/2001 has been Extended to 06/25/2001.

EIS No. 010172, Draft EIS, FHW, MD, MD-210 (Indian Head Highway) Multi-Modal Study, MD-210 Improvements between I-95/I-495 (Capitol Beltway) and MD-228 Funding and US COE Section 404 Permit Issuance, Prince George's County, MD, Due: July 23, 2001, Contact: Nelson Castellanos (410) 962-4342. Revision of FR notice published on 05/18/2001: CEQ Due Date Corrected from 09/23/2001 to 07/23/2001.

Dated: June 4, 2001.
Joseph C. Montgomery,
Director, NEPA Compliance Division, Office of Federal Activities

[FR Doc. 01-14512 Filed 6-7-01; 8:45 am]

BILLING CODE 6560-50-P